DEPARTMENT OF AGRICULTURE

Forest Service

Information Collections: Clauses and Forms for Operating Plans and Agreements for Powerline Facility Operation and Maintenance, Inspections, and Vegetation Management and Clause for Vegetation Management Pilot Program Projects

AGENCY: Forest Service, USDA.

ACTION: Notice; request for comment.

SUMMARY: In accordance with the Paperwork Reduction Act of 1995, the Forest Service is seeking comments on two new information collections, Forms and Clauses for Operating Plans and Agreements for Powerline Facility Operation and Maintenance, Inspections, and Vegetation Management and Clause for Vegetation Management Pilot Program Projects.

DATES: Comments must be received in writing on or before July 12, 2021.

ADDRESSES: Commenters are encouraged to submit comments by email, if possible. You may submit comments by any of the following methods:

Email: reply_lands_staff@usda.gov.

Mail: USDA Forest Service, Attention: Lands, 1400 Independence Avenue, Southwest, Mailstop 1124, Washington, DC 20250-1124.

Facsimile: 703-605-5117.

All comments, including names and addresses when provided, will be placed in the record and will be available for public inspection and copying. The public may review the new information collections, and comments on the new information collections, on the Forest Service forms web page at https://www.fs.usda.gov/managing-land/lands-and-realty-management/forms. Comments will be summarized in the Forest Service's request for Office of Management and Budget approval of the new information collections and will be addressed in a Federal Register notice of the final revisions to the approved information collections.

FOR FURTHER INFORMATION CONTACT: Reggie Woodruff, Energy Program Manager, at 202-205-1196 or via email at reginal.woodruff@usda.gov. Individuals who use telecommunication devices for the hearing-impaired (TDD) may call the Federal Information Relay Service at 800-877-8339 24 hours a day, every day of the year.

SUPPLEMENTARY INFORMATION: Title: Clauses and Forms for Operating Plans and Agreements for Powerline Facility Operation and Maintenance, Inspections, and Vegetation Management.

OMB Number: 0596-NEW.

Type of Request: New.

Abstract: The Consolidated Appropriations Act of 2018 amended the Federal Land Policy and Management Act (FLPMA) to add section 512, which requires the Forest Service to collect information from owners and operators of powerline facilities for development of operating plans and agreements governing vegetation management, operation and maintenance, and inspection of powerline facilities on National Forest System (NFS) lands. The collected information will be evaluated by line officers and realty specialists at Forest Service field units where powerline facilities are located to implement the requirements of section 512 of FLPMA regarding operating plans and agreements governing vegetation management, operation and maintenance, and inspections of powerline facilities.

Affected Public: Individuals, the private sector (business and nonprofit entities and state, local, and tribal governmental entities).

Estimate of Burden per Response: 240 hours.

Estimated Annual Number of Respondents: 10.

Estimated Annual Number of Responses per Respondent: 1.

Estimated Total Annual Burden on Respondents: 2,400 hours.

Title: Clause for Vegetation Management Pilot Program Projects.

OMB Number: 0596-NEW.

Type of Request: NEW.

Abstract: Section 8630 of the Agriculture Improvement Act of 2018 (Farm Bill) gives the Forest Service discretion to authorize vegetation management pilot program projects under lower liability standards to holders of an authorization for a powerline facility or natural gas pipeline. These pilot projects may be conducted only on NFS lands that are not covered by the special use authorization for the powerline facility or natural gas pipeline. The pilot projects must be conducted outside the linear right-of-way for the associated powerline facility or natural gas pipeline; may not extend more than 150 feet from either side of the powerline facility or natural gas pipeline; and may not have a total width of more than 200 feet including both sides of the powerline facility or natural gas pipeline. In addition, the pilot projects may not overlap with vegetation management conducted under the special use authorization for the powerline facility or natural gas pipeline, including removal and pruning of hazard trees outside the linear right-of-way for a powerline facility. The liability provisions in a special use permit for a pilot project have no effect on the liability provisions in the special use authorization for the powerline facility or natural gas pipeline, including the liability provisions that apply to removal and pruning of hazard trees inside and outside the linear right-of-way. Proposed new clause B-39 in Forest Service Handbook 2709.11, Chapter 50, section 52.2, would provide for authorizing vegetation management pilot projects consistent with section 8630 of the Farm Bill and Title V of the Federal Land Policy and Management Act, section 28 of the Mineral Leasing Act, and their implementing regulations.

Affected Public: Individuals, the private sector (business and nonprofit entities and state, local, and tribal governmental entities).

Estimate of Burden per Response: 32 hours.

Estimated Annual Number of Respondents: 2.

Estimated Annual Number of Responses per Respondent: 1.

Estimated Total Annual Burden on Respondents: 64 hours.

Comment is invited on: (1) Whether these collections of information are necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collections of information on respondents, including the use of automated, electronic, mechanical, or other technological collection techniques or other forms of information technology.

Gregory C. Smith,
Director, Lands and Realty Management, National Forest System.

[FR Doc. 2021-10125 Filed 5-12-21; 8:45 am]

BILLING CODE 3411-15-P